GENERAL SERVICES ADMINISTRATION

Office of Communications; Creation of an Optional Form

AGENCY: Office of Communications, GSA.

ACTION: Notice.

SUMMARY: The General Services Administration (GSA), Office of Governmentwide Policy has created the following Optional Form: OF 92, Screener's Identification. This form is used by Federal agencies for issuance to non-Federal personnel. You may request copies of the new form in two ways:

Telephone: GSA, Forms Management-XR, Attn.: Barbara Williams, (202) 501-0581; or

E-mail: barbm.williams@gsa.gov.

DATES: August 16, 2001.

FOR FURTHER INFORMATION CONTACT: Ms. Nancy Wong, 202-501-4364. (This contact is for information on completing the form and interpreting its use only.)

Dated: August 10, 2001.
Barbara M. Williams,
Deputy Standard and Optional Forms Management Officer, General Services Administration.

[FR Doc. 01-20577 Filed 8-15-01; 8:45 am]

BILLING CODE 6820-34-M